FEDERAL TRADE COMMISSION

Notice Announcing Dates and Location of Public Forum

AGENCY: Federal Trade Commission.

SUMMARY: The Federal Trade Commission has: (1) set October 26, 2000 from 8:30 a.m. to 5:30 p.m. and October 27, 2000 from 9:00 a.m. to 5:30 p.m. as the dates and times for its public forum on “Warranty Protection for High-Tech Products and Services,” announced in 65 FR 30411 (May 11, 2000); and (2) announced the location of the public forum to be the Federal Trade Commission headquarters at 600 Pennsylvania Avenue, NW., Washington, DC 20580.

DATES: The public forum will be held at the Federal Trade Commission headquarters, 600 Pennsylvania Avenue, NW., Washington, DC 20580 on October 26, 2000 from 8:30 a.m. to 5:30 p.m. and October 27, 2000 from 9:00 a.m. to 5:30 p.m.

FOR FURTHER INFORMATION: A forum agenda, a list of participants, and all public comments submitted in connection with the public forum will be posted closer to the date of the forum on the Federal Trade Commission Web site, ftc.gov. For further information about the public forum, contact any of the following persons by mail at Federal Trade Commission, 600 Pennsylvania Avenue, NW., Room 238, Washington, DC 20580, or by telephone or email as follows: April Major, Attorney, Division of Marketing Practices, telephone 202-326-2972, email amajor@ftc.gov; Daniel Salsburg, Attorney, Division of Marketing Practices, telephone 202-326-3402, email dsalsburg@ftc.gov; or Carole Danielson, Investigator, Division of Marketing Practices, telephone 202-326-3115, email cdanielson@ftc.gov.

SUPPLEMENTARY INFORMATION: On May 11, 2000, the Federal Trade Commission published a Federal Register Notice announcing a public forum in the fall of 2000 to discuss warranty protection for software and other computer information products and services that are marketed to consumers, and soliciting academic papers and written comment relating to those issues. The Commission has not set October 26 and 27, 2000, as the dates for the forum. The forum will be held at the offices of the Federal Trade Commission, 600 Pennsylvania Avenue, NW., Washington, DC 20580, from 8:30 a.m. to 5:30 p.m. on October 26 and from 9:00 a.m. to 5:30 p.m. on October 27, 2000. The forum is open to the public, and there is no formal registration process for those wishing to attend. Seating is limited, but overflow rooms will be available.

Authority: 15 U.S.C. 41 et seq.

By direction of the Commission.
Donald S. Clark,
Secretary.

[FR Doc. 00-25567 Filed 10-4-00; 8:45 am]

BILLING CODE 6750-01-M